SMALL BUSINESS ADMINISTRATION

[Disaster Declaration #21433 and #21434; CALIFORNIA Disaster Number CA-20038]

Administrative Declaration of a Disaster for the State of California

AGENCY: U.S. Small Business Administration.

ACTION: Notice.

SUMMARY: This is notice of an Administrative declaration of a disaster for the state of CALIFORNIA dated February 3, 2026.

Incident: 2025 Late December Storm.

DATES: Issued on February 3, 2026.

Incident Period: December 16, 2025 through December 26, 2025.

Physical Loan Application Deadline Date: April 6, 2026.

Economic Injury (EIDL) Loan Application Deadline Date: November 3, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: Notice is hereby given as a result of the Administrator's disaster declaration, applications for disaster loans may be submitted online using the MySBA Loan Portal https://lending.sba.gov or in person at other locally announced locations. For further assistance please contact the SBA disaster assistance customer service center by email at disastercustomerservice@sba.gov or by phone at 1-800-659-2955. If you are deaf, hard of hearing, or have a speech disability, please dial 7-1-1 to access telecommunications relay services.

The following areas have been determined to be adversely affected by the disaster:

Primary Counties: San Bernardino, Shasta.

Contiguous Counties:

California: Inyo, Kern, Lassen, Los Angeles, Modoc, Orange, Plumas, Riverside, Siskiyou, Tehama, Trinity.

Arizona: La Paz, Mohave.

Nevada: Clark.

The Interest Rates are:

| Percent
For Physical Damage:
Homeowners with Credit Available Elsewhere | 5.750
Homeowners without Credit Available Elsewhere | 2.875
Businesses with Credit Available Elsewhere | 8.000
Businesses without Credit Available Elsewhere | 4.000
Private Non-Profit Organizations with Credit Available Elsewhere | 3.625
Private Non-Profit Organizations without Credit Available Elsewhere | 3.625
For Economic Injury:
Business and Small Agricultural Cooperatives without Credit Available Elsewhere | 4.000
Private Non-Profit Organizations without Credit Available Elsewhere | 3.625

The number assigned to this disaster for physical damage is 214336 and for economic injury is 214340.

The states which received an SBA Administrative declaration are Arizona, California, Nevada.

(Catalog of Federal Domestic Assistance Number 59008)

(Authority: 13 CFR 123.3(b).)

James Stallings,
Associate Administrator, Office of Disaster Recovery & Resilience.

[FR Doc. 2026-02443 Filed 2-5-26; 8:45 am]

BILLING CODE 8026-09-P